DEPARTMENT OF COMMERCE

National Oceanic and Atmospheric Administration

Affirmation of Vertical Datum for Surveying and Mapping Activities for the Islands of St. Croix, St. John, and St. Thomas, United States Virgin Islands

AGENCY: National Geodetic Survey (NGS), National Ocean Service (NOS), National Oceanic and Atmospheric Administration.

ACTION: Notice.

SUMMARY: This Notice announces a decision by the Federal Geographic Data Committee's Federal Geodetic Control Subcommittee in accordance with the Office of Management and Budget; Circular A-16 (http://www.whitehouse.gov/omb/circulars/a016/a016.html), to affirm the Virgin Islands Vertical Datum of 2009 (VIVD09) as the official civilian vertical datum for surveying and mapping activities for the islands of St. Croix, St. John, and St. Thomas of the United States Virgin Islands, and to the extent practicable, legally allowable and feasible, require that all Federal agencies, with the exception of those with specific military related applications, using or producing vertical height information undertake an orderly transition to VIVD09.

DATES: Individuals or organizations wishing to submit comments on the adoption of VIVD09 as the official civilian vertical datum for the Virgin Islands should do so by January 11, 2012.

ADDRESSES: Written comments should be sent to the attention of David Doyle, Chief Geodetic Surveyor, Office of the National Geodetic Survey, National Ocean Service (N/NGS2), 1315 East-West Highway, #8815, Silver Spring, Maryland 20910, fax (301) 713-4324, or via email Dave.Doyle@noaa.gov.

FOR FURTHER INFORMATION CONTACT: Requests for additional information should be directed to David Doyle, Chief Geodetic Surveyor, National Geodetic Survey (NNGS2), 1315 East-West Highway, #8815, Silver Spring, MD 20910; Phone: (301) 713-3178.

SUPPLEMENTARY INFORMATION: The National Ocean Service (NOS), National Geodetic Survey (NGS), has completed the definition and implementation of VIVD09. VIVD09 supersedes all previously published height systems determined by other Federal surveying and mapping agencies on St. Croix, St. John, and St. Thomas, with the exception of those specifically related to tidal datums and/or military applications. VIVD09 heights are the result of a mathematical least squares general adjustment of the vertical control portion of the National Spatial Reference System (NSRS) and are derived from approximately 105.85 km of Double-Run, 1 st-Order, Class II geodetic leveling observations (54.73 km on St. Croix, 29.10 km on St. John, and 22.02 km on St. Thomas) undertaken specifically for this project. The basis for all VIVD09 heights is Local Mean Sea Level, for the National Tidal Datum Epoch 1983-2001, as determined by the NOS Center for Operational Oceanographic Products and Services (CO-OPS), and published for the National Water Level Observation Network (NWLON) bench marks numbered 975 1401 M (PID DK7165) (3.111 meters), located at Lime Tree Bay, St. Croix, 975 1381 TIDAL A (PID DL3636) (1.077 meters), located at Lameshur Bay, St. John, and 975 1639 F (PID DL3908) (1.552 meters), located at Charlotte Amalie, St. Thomas.

VIVD09 height information for individual geodetic control monuments is available in digital form, from the NGS Web site: http://www.ngs.noaa.gov/cgi-bin/datasheet.prl.

Dated: November 21, 2011.
Juliana P. Blackwell,
Director, Office of National Geodetic Survey, National Ocean Service, National Oceanic and Atmospheric Administration.

[FR Doc. 2011-31592 Filed 12-9-11; 8:45 am]

BILLING CODE 3510-JE-M